DEPARTMENT OF COMMERCE

National Oceanic and Atmospheric Administration

Proposed Information Collection; Comment Request; Processed Products Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 12, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Steven J. Koplin, F/ST1, Room 12456, 1315 East West Highway, Silver Spring, MD 20910-3282, 301-713-2328 or steve.koplin@noaa.gov.

SUPPLEMENTARY INFORMATION:

I. Abstract

NOAA, on an annual basis, collects information from seafood and industrial fishing processing plants on the volume and value of their fishery products and their monthly employment figures. Monthly, NOAA collects information on the production of fish meal and oil. NOAA uses the information gathered in the economic and social analyses used when proposing and evaluating fishery management actions.

II. Method of Collection

In the current survey, NOAA Fisheries provides each processor a preprinted form that includes the products produced by the company in the previous year. The processor only needs to fill in the quantities and any new products, before returning the form every year. Processors have the option to use a web-based application that allows them to submit the data electronically.

III. Data

OMB Number: 0648-0018.

Form Number: NOAA Forms 88-13, 88-13C.

Type of Review: Regular submission.

Affected Public: Business or other for-profits organizations.

Estimated Number of Respondents: 1,320.

Estimated Time Per Response: 30 minutes for an Annual Processed Products Report; and 15 minutes for a Fishery Products Report Fish Meal and Oil, monthly.

Estimated Total Annual Burden Hours: 680.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) Ways to minimize the burden of the collection of information on respondents, including through the use of automated collection techniques or other forms of information technology.

Comments submitted in response to this notice will be summarized and/or included in the request for OMB approval of this information collection; they also will become a matter of public record.

Dated: October 5, 2005.
Gwellnar Banks,
Management Analyst, Office of the Chief Information Officer.

[FR Doc. 05-20338 Filed 10-7-05; 8:45 am]

BILLING CODE 3510-22-P